DEPARTMENT OF THE INTERIOR

Bureau of Land Management

[MT-020-05-1610-DO-036E]

Notice of Intent To Prepare a Resource Management Plan Revision and Environmental Impact Statement for Eastern Montana

AGENCY: Bureau of Land Management, Interior, Montana, Miles City Field Office.

ACTION: Notice of intent to prepare a Resource Management Plan Revision and Environmental Impact Statement for Eastern Montana, initiate public scoping and request comments on Planning Criteria.

SUMMARY: In accordance with the Federal Land Policy and Management Act of 1976 (43 U.S.C. 1701), as amended; the National Environmental Policy Act of 1969 (42 U.S.C. 4321), as amended; and the Council on Environmental Quality (CEQ) regulations (40 CFR parts 1500-1508), the Bureau of Land Management (BLM) will revise two Resource Management Plans (RMPs) by combining the Powder River and Big Dry RMPs (to be called the “Miles City Field Office RMP”) and preparing an Environmental Impact Statement (EIS) to evaluate the effects of land and mineral management options. The RMP and EIS are scheduled for completion by December 2007.

DATES: Written and electronic comments on the scope of the RMP, preliminary issues, and planning criteria may be submitted for 30 days from the date of this notice. Public scoping meetings will be held in Ashland, Baker, Broadus, Glendive, Jordan, Miles City, Terry, Billings and Sidney, Montana. Meeting locations and dates for each town will be announced through local news media, newsletters and the BLM public outreach Web site http://www.mt.blm.gov/mcfo/.

ADDRESSES: You may submit comments by any of the following methods:

Web site: http://milescityrmp.com.

Mail: “Miles City RMP Comments”, P.O. Box 219, Miles City, MT 59301-0219.

Fax: (918) 382-7582.

Hand-Deliver: Miles City Field Office, 111 Garryowen Road, Miles City, Montana.

Comments on issues and planning criteria may also be submitted to the BLM at any public scoping meeting. Documents pertinent to the Miles City Field Office RMP may be examined at the Miles City Field Office, 111 Garryowen Road, Miles City, MT.

FOR FURTHER INFORMATION CONTACT: Mary Bloom, Project Manager, Bureau of Land Management, Miles City Field Office, 111 Garryowen Road, Miles City, MT, telephone (406) 233-2852. Web site questions may be directed to WebSiteAdmin@milescityrmp.com.

SUPPLEMENTARY INFORMATION: The approved RMP will replace the existing Big Dry and Powder River RMPs as the document guiding land and resource management decisions on BLM-administered lands and minerals in the planning area. The purpose of the public scoping process is to determine relevant issues that will influence the scope of the environmental analysis and alternatives. These issues also guide the planning process. The BLM will work collaboratively with interested parties to identify the management options that are best suited to local, regional, and national needs and concerns. Public land management within the planning area is currently guided by the Big Dry RMP and the Powder River RMP, completed in 1996 and 1985, respectively.

The intent of the planning process is to analyze and update land and resource management objectives within the planning area. The planning area includes all of the BLM-administered surface (2,785,000 acres) and mineral (11,725,000 acres) estate managed by the Miles City Field Office in Carter, Custer, Daniels, Dawson, Fallon, Garfield, McCone, Powder River, Prairie, Richland, Roosevelt, Rosebud, Sheridan, Treasure, Wibaux and portions of Big Horn and Valley counties.

The public will assist the BLM in identifying the issues. Preliminary issues and management concerns have been identified by BLM personnel and other agencies, and in meetings with individuals and user groups. The RMP will consider resource options that are scientifically sound, legally defensible and sustainable. Examples of preliminary issues include the need to provide access to significant energy sources and communication sites, the continuation of grazing activities, maximizing use of public lands in species recovery and habitat conservation, and the need to provide adequate facilities for safe recreation and visitation on the public lands. Topics to be addressed in the RMP will include vegetation; forestry and timber; special status species; water quality and quantity; travel management; all special management area designations; livestock grazing; fluid mineral leasing, including for coal bed natural gas; solid minerals; recreational uses; right-of-way corridor planning and land authorizations; land tenure adjustment information and access needs; and Native American concerns. Management concerns include air quality, cultural resources, paleontological resources, social and economic concerns, environmental justice, and wildfire management. BLM will also consider compatibility with management plans for adjacent lands.

BLM is also extending a call for coal resource information and any information regarding resources which may affect the leasing of Federal coal or be affected by the leasing of Federal coal. Resource information pertinent to any other BLM resource management activities is also requested.

The RMP and EIS will be prepared by an interdisciplinary team with specialists for recreation, fisheries, biology, archeology, air quality, wildlife, realty, geology and mining, and range management.

Please note that comments and information submitted regarding this RMP, including names, e-mail addresses, and street addresses of respondents, will be available for public review and disclosure at the above address. BLM will not accept anonymous comments. Individual respondents may request confidentiality. Individuals who wish to withhold their name or street address from public review or from disclosure under the Freedom of Information Act must state this prominently at the beginning of their written comments. Such requests will be honored to the extent allowed by law. All submissions from organizations and businesses, and from individuals identifying themselves as representatives or officials of organizations or businesses, will be available for public inspection in their entirety.

Dated: January 5, 2005.
David McIlnay,
Field Manager.

[FR Doc. 05-2111 Filed 2-3-05; 8:45 am]

BILLING CODE 4310-$$-P